DEPARTMENT OF JUSTICE

Office of Community Oriented Policing Services; Agency Information Collection Activities: Proposed Collection; Comment Request

ACTION: Notice of Information Collection Under Review; Extension of a currently approved collection.

Problem-Solving Management Survey

The Department of Justice, Office of Community Oriented Policing Services has submitted the following information collection request for review and clearance in accordance with the Paperwork Reduction Act of 1995. Office of Management and Budget approval is being sought for the information collection listed below. This proposed information collection was previously published in the Federal Register on February 9, 2000 (65 FR 6394), allowing for a 60-day public comment period.

The purpose of this notice is to allow an additional 30 days for public comment until October 10, 2000. This process is conducted in accordance with 5 CFR 1320.10.

Written comments and/or suggestions regarding the item(s) contained in this notice, especially regarding the estimated public burden and associated response time, should be directed to the COPS Office, PPSE Division, 1100 Vermont Ave., NW., Washington, DC 20530-0001; attn: Karen Beckman. Additionally, Comments may be submitted to COPS via facsimile to 202-633-1386, attn: Karen Beckman. Comments may also be submitted to the Department of Justice (DOJ), Justice Management Division, Information Management and Security Staff, Attention: Department Deputy Clearance Officer, National Place, Suite 1220, 1331 Pennsylvania Avenue, NW., Washington, DC, 20530.

Written comments and suggestions from the public and affected agencies should address one or more of the following points:

(1) Evaluate whether the proposed collection of information is necessary for the proper performance of the functions of the agency/component, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of the Collection

Problem-Solving Management Survey

(1) Type of information collection. Extension of a currently approved collection.

(2) The title of the form/collection. Problem-Solving Management Survey.

(3) The agency form number, if any, and the applicable component of the Department sponsoring the collection. Form: COPS PPSE/01. Office of Community Oriented Policing Services, United States Department of Justice.

(4) Affected public who will be asked or required to respond, as well as a brief abstract: Captains, Chiefs, Detectives/Sergeants, and Crime analysts from 75 large police agencies that have received COPS 1999 School Based Partnership Grants will be asked to respond (approximately 300). The Problem-solving Management Survey will collect basic information about the capacity of police agencies to prioritize problems, their knowledge of agency resources, and their understanding of problem-solving information as it relates to problem-oriented policing.

The COPS office will use the information collected to identify the information necessary for police executives to effectively utilize resources as it relates to problem-solving and to examine existing problem-oriented policing tracking systems for the purpose of identifying best practices in problem-solving management. Data from the surveys will be used to produce a final Problem-Solving Knowledge Management Model. A brochure and video of the Problem-Solving Model will assist agencies in problem prioritization, and the allocation of resources in support of problem-oriented policing.

(5) An estimate of the total number of respondents and the amount of time estimated for an average respondent to respond: Surveys will be administered by telephone to approximately 300 position-specific law enforcement officials within 75 large police agencies who have been awarded COPS 1999 School Based Partnership Grants. The four specific positions that will be questioned in each agency are Captains, Chiefs, Detectives or Sergeants, and Crime Analysts. Administrative preparation and survey completion will take approximately 0.75 hours per respondent (there is no record keeping burden for this collection).

(6) An estimate of the total public burden (in hours) associated with the collection. Approximately 225 hours.

Public comment on this proposed information collection is strongly encouraged.

Dated: August 31, 2000.
Brenda E. Dyer,
Department Deputy Clearance Officer, United States Department of Justice.

[FR Doc. 00-22886 Filed 9-6-00; 8:45 am]

BILLING CODE 4140-01-M